DEPARTMENT OF ENERGY

Federal Energy Regulatory Commission

[Docket No. CP01-415-006]

East Tennessee Natural Gas Company; Notice of Compliance Filing

January 16, 2003.

Take notice that on December 31, 2002, East Tennessee Natural gas Company (East Tennessee) tendered for filing its service agreements between East Tennessee and NUI Energy Brokers, Inc., Duke Energy Murray, LLC, and Carolina Power & Light company. On November 20, 2002, the Commission issued to East Tennessee an “Order Denying Rehearing, Authorizing Abandonment, and Issuing Certificate” in the captioned proceeding. In compliance with ordering paragraph (G) of the November 20 Order, East Tennessee filed said service agreements with the Commission.

East Tennessee states that pursuant to 18 CFR 385.2010, East Tennessee is contemporaneously serving copies of its submittal to persons whose names appear on the official list for this proceeding.

Any person desiring to intervene and/or to protest this filing should file a protest with the Federal Energy Regulatory Commission, 888 First Street, NE., Washington, DC 20426, in accordance with sections 385.214 and 385.211 of the Commission's rules and regulations. Protests will be considered by the Commission in determining the appropriate action to be taken, but will not serve to make protestants parties to the proceeding. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(l)(iii) and the instructions on the Commission's Web site under the “e-Filings” link.

Protest and Intervention Date: January 27, 2003.

Magalie R. Salas,
Secretary.

[FR Doc. 03-1493 Filed 1-22-03; 8:45 am]

BILLING CODE 6717-01-P